FEDERAL DEPOSIT INSURANCE CORPORATION

Sunshine Act Meeting Notice

Pursuant to the provisions of the “Government in the Sunshine Act” (5 U.S.C. 552b), notice is hereby given that the Federal Deposit Insurance Corporation's Board of Directors will meet in open session at 10 a.m. on Thursday, November 2, 2006, to consider the following matters:

Summary Agenda

No substantive discussion of the following items is anticipated. These matters will be resolved with a single vote unless a member of the board of Directors requests that an item be moved to the discussion agenda.

Disposition of minutes of previous Board of Directors' meetings.

Summary reports, status reports, and reports of actions taken pursuant to authority delegated by the Board of Directors.

Memorandum and resolution re: Amendment to Part 308 Increasing Fees for Late Assessment Penalties.

Memorandum re: Economic Conditions and Emerging Risks in banking.

Discussion Agenda

Memorandum and resolution re: Final Rule Setting the designated Reserve Ratio.

Memorandum and resolution re: Final Part 327—Operational Processes Governing the FDIC's Deposit Insurance Assessment System.

Memorandum and resolution re: Final Rule on Risk-Based Assessments.

Memorandum and resolution re: Final Rule Regarding the Official FDIC Sign and Advertising of FDIC Membership.

Memorandum and resolution re: Establishment of FDIC Advisory Committee on economic Inclusion.

The meeting will be held in the Board Room on the sixth floor of the FDIC Building located at 550 17th Street, NW., Washington, DC.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7122.

Dated: October 26, 2006.
Federal Deposit Insurance Corporation.
Valerie Best,
Assistant Executive Secretary.

[FR Doc. 06-9005 Filed 10-27-06; 12:51 pm]

BILLING CODE 6714-01-M